DEPARTMENT OF ENERGY

Federal Energy Regulatory Commission

[Docket Nos. EC02-60-000 and ER02-1298-000]

KeySpan-Ravenswood, Inc.; Notice of Filing

April 3, 2002.

Take notice that on March 29, 2002, KeySpan-Ravenswood, Inc. (Ravenswood) filed with the Federal Energy Regulatory Commission (Commission) an application under section 203 of the Federal Power Act seeking authorization for an intracorporate reorganization, by change of its corporate form, which will result in the nominal transfer of its jurisdictional facilities to KeySpan-Ravenswood LLC, which will be A newly formed affiliated limited liability company (the Transaction). The Transaction may constitute the disposition of jurisdictional facilities associated with the generation facilities it owns and operates (e.g., market-based rate schedule of Ravenswood and the arrangements entered into thereunder, limited transmission interconnection facilities and jurisdictional books and records). Ravenswood has also submitted A form of A notice of succession for KeySpan-Ravenswood LLC as successor to Ravenswood's rate schedules and agreements entered into thereunder and revised tariff sheets for its market-based rate schedule.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become A party must file A motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: April 23, 2002.

Magalie R. Salas,
Secretary.

[FR Doc. 02-8646 Filed 4-9-02; 8:45 am]

BILLING CODE 6717-01-P